OFFICE OF PERSONNEL MANAGEMENT

Excepted Service

AGENCY: Office of Personnel Management.

ACTION: Notice.

SUMMARY: This gives notice of OPM decisions granting authority to make appointments under Schedules A, B, and C in the excepted service as required by 5 CFR 6.6 and 213.103.

FOR FURTHER INFORMATION CONTACT: Quasette Crowner, Center for Leadership and Executive Resources Policy, Division for Strategic Human Resources Policy, 202-606-8046.

SUPPLEMENTARY INFORMATION: Appearing in the listing below are the individual authorities established under Schedules A, B, and C between December 1, 2005, and December 31, 2005.

Future notices will be published on the fourth Tuesday of each month, or as soon as possible thereafter.

A consolidated listing of all authorities as of June 30 is published each year.

Schedule A

No Schedule A appointments were approved for December 2005.

Schedule B

No Schedule B appointments were approved for December 2005.

Schedule C

The following Schedule C appointments were approved during December 2005:

Section 213.3303 Executive Office of the President

Presidents Commission on White House Fellowships

WHGS00017 Education Director to the Director, President's Commission on White House Fellowships. Effective December 02, 2005.

WHGS00018 Special Assistant to the Director, President's Commission on White House Fellowships. Effective December 21, 2005.

Section 213.334 Department of State

DSGS61012 Senior Advisor to the Secretary of State. Effective December 01, 2005.

DSGS61017 Director for MEPI to the Assistant Secretary for Near Eastern and South Asian Affairs. Effective December 02, 2005.

DSGS61019 Senior Advisor to the Under Secretary for Global Affairs. Effective December 05, 2005.

DSGS61020 Staff Assistant to the Assistant Secretary for International Organization Affairs. Effective December 02, 2005.

Section 213.335 Department of the Treasury

DYGS00230 Public Affairs Specialist to the Director, Public Affairs. Effective December 16, 2005.

DYGS00441 Director of Outreach to the Deputy Assistant Secretary. Effective December 16, 2005.

DYGS01377 Special Assistant to the Chief of Staff. Effective December 29, 2005.

Section 213.336 Department of Defense

DDGS16902 Public Affairs Specialist to the Public Affairs Specialist. Effective December 21, 2005.

DDGS16908 Civilian Executive Assistant to the Chairman of the Joint Chiefs of Staff. Effective December 28, 2005.

DDGS16891 Special Assistant to the Under Secretary of Defense (Comptroller) and the Principal Deputy Under Secretary of Defense (Comptroller) to the Principal Deputy Under Secretary of Defense (Comptroller) and Deputy Under Secretary of Defense (Management Reform). Effective December 29, 2005.

DDGS16912 Research Assistant to the Deputy Assistant Secretary of Defense (Internal Communications). Effective December 30, 2005.

Section 213.337 Department of the Army

DWGS00065 Special Assistant to the Deputy Assistant Secretary of the Army for Privatization and Partnerships (I and E). Effective December 30, 2005.

DWGS00066 Confidential Assistant to the Special Assistant to the Secretary of Army for Business Transformation Initiatives. Effective December 30, 2005.

Section 213.3310 Department of Justice

DJGS00406 Senior Press Assistant to the Director, Office of Public Affairs. Effective December 06, 2005.

DJGS00105 Counsel to the Special Counsel. Effective December 09, 2005.

DJGS00201 Counselor to the Assistant Attorney General Criminal Division. Effective December 09, 2005.

DJGS00203 Counsel to the Assistant Attorney General Criminal Division. Effective December 09, 2005.

DJGS00348 Briefing Book Coordinator to the Chief of Staff. Effective December 09, 2005.

DJGS00186 Senior Counsel to the Deputy Attorney General. Effective December 13, 2005.

DJGS00042 Confidential Assistant to the Director, Office of Public Affairs. Effective December 16, 2005.

DJGS00051 Chief of Staff to the Administrator of Juvenile Justice and Delinquency Prevention. Effective December 16, 2005.

DJGS00338 Special Assistant to the Assistant Attorney General. Effective December 27, 2005.

Section 213.3311 Department of Homeland Security

DMGS00448 Operations and Special Projects Coordinator to the Deputy Secretary of the Department of Homeland Security. Effective December 02, 2005.

DMGS00449 Director of Legislative Affairs, Federal Emergency Management Agency to the Under Secretary for Emergency Preparedness and Response. Effective December 02, 2005.

DMGS00450 Confidential Assistant to the Director, National Capital Region Coordination. Effective December 09, 2005.

DMGS00451 Special Assistant to the Director, National Capital Region Coordination. Effective December 09, 2005.

DMGS00453 Special Assistant to the Assistant Commissioner for Legislative Affairs. Effective December 09, 2005.

DMGS00455 Director of Information Analysis and Operations to the Assistant Secretary for Legislative Affairs. Effective December 09, 2005.

DMGS00452 Attorney-Adviser to the General Counsel. Effective December 15, 2005.

DMGS00456 Scheduler and Protocol Coordinator to the Director of Scheduling and Advance. Effective December 16, 2005.

DMGS00458 Associate Executive Secretary for Internal Coordination to the Executive Secretary. Effective December 16, 2005.

DMGS00457 Deputy White House Liaison and Advisor to the Chief of Staff to the White House Liaison. Effective December 20, 2005.

Section 213.3312 Department of the Interior

DIGS01052 Special Assistant—External and Intergovernmental Affairs to the Director, External and Intergovernmental Affairs. Effective December 09, 2005.

DIGS79100 Special Assistant to the Director, United States Fish and Wildlife Service. Effective December 30, 2005.

Section 213.3313 Department of Agriculture

DAGS00836 Speech Writer to the Director of Communications. Effective December 13, 2005.

Section 213.3314 Department of Commerce

DCGS00425 Director of Public Affairs to the Under Secretary for International Trade. Effective December 01, 2005.

DCGS60291 Public Affairs Specialist to the Director of Public Affairs. Effective December 01, 2005.

DCGS00564 Confidential Assistant to the Director, Executive Secretariat. Effective December 13, 2005.

DCGS60471 Confidential Assistant to the Chief of Staff to the Deputy Secretary. Effective December 16, 2005.

DCGS00526 Confidential Assistant to the Director, Advocacy Center. Effective December 21, 2005.

DCGS00199 Legislative Affairs Specialist to the Deputy Assistant Secretary for Legislative and Intergovernmental Affairs. Effective December 27, 2005.

Section 213.3315 Department of Labor

DLGS00166 Staff Assistant to the Director of Operations. Effective December 02, 2005.

DLGS60122 Senior Intergovernmental Officer to the Assistant Secretary for Congressional and Intergovernmental Affairs. Effective December 02, 2005.

DLGS60178 Staff Assistant to the Director of Operations. Effective December 02, 2005.

DLGS60272 Special Assistant to the Director, 21st Century Office and Deputy Assistant Secretary for Intergovernmental Affairs. Effective December 02, 2005.

DLGS60074 Special Assistant to the Assistant Secretary for Public Affairs. Effective December 09, 2005.

DLGS60204 Special Assistant to the Assistant Secretary for Veterans Employment and Training. Effective December 13, 2005.

DLGS60096 Chief of Staff to the Deputy Assistant Secretary for Labor-Management Programs. Effective December 21, 2005.

Section 213.3316 Department of Health and Human Services

DHGS60528 Confidential Assistant (Scheduling) to the Director of Scheduling. Effective December 09, 2005.

DHGS60027 Deputy Director for Scheduling to the Director of Scheduling. Effective December 16, 2005.

Section 213.3317 Department of Education

DBGS00487 Deputy Assistant Secretary (Senate) to the Assistant Secretary for Legislation and Congressional Affairs. Effective December 01, 2005.

DBGS00481 Special Assistant to the Assistant Secretary for Elementary and Secondary Education. Effective December 02, 2005.

DBGS00488 Executive Assistant to the Assistant Secretary for Postsecondary Education. Effective December 02, 2005.

DBGS00489 Special Assistant to the Assistant Secretary for Postsecondary Education. Effective December 02, 2005.

DBGS00482 Executive Director to the Chief of Staff. Effective December 07, 2005.

DBGS00483 Special Assistant to the Director, International Affairs Office. Effective December 09, 2005.

DBGS00491 Confidential Assistant to the Assistant Secretary, Office of Communications and Outreach. Effective December 14, 2005.

DBGS00475 Confidential Assistant to the Director, White House Initiative on Tribal Colleges and Universities. Effective December 21, 2005.

DBGS00490 Deputy Assistant Secretary for Media Relations and Strategic Communications to the Assistant Secretary, Office of Communications and Outreach. Effective December 21, 2005.

DBGS00492 Deputy Assistant Secretary for Policy and Strategic Initiatives to the Assistant Secretary for Elementary and Secondary Education. Effective December 21, 2005.

Section 213.3318 Environmental Protection Agency

EPGS05007 Associate Director, Office of Executive Secretariat to the Chief of Staff. Effective December 20, 2005.

Section 213.3327 Department of Veterans Affairs

DVGS60055 Special Assistant to the Assistant Secretary for Congressional and Legislative Affairs. Effective December 30, 2005

Section 213.3331 Department of Energy

DEGS00500 Special Assistant to the Assistant Secretary for Congressional and Intergovernmental Affairs. Effective December 01, 2005.

DEGS00494 Associate Deputy Director to the Associate Director. Effective December 02, 2005.

DEGS00496 Associate Deputy Assistant Secretary to the Assistant Secretary for Congressional and Intergovernmental Affairs. Effective December 02, 2005.

DEGS00501 Legislative Affairs Specialist to the Assistant Secretary for Congressional and Intergovernmental Affairs. Effective December 09, 2005.

DEGS00491 Deputy Assistant Secretary for Energy Policy to the Assistant Secretary for Congressional and Intergovernmental Affairs. Effective December 21, 2005.

DEGS00503 Speechwriter to the Director, Public Affairs. Effective December 21, 2005.

Section 213.3332 Small Business Administration

SBGS60559 Assistant Administrator for Congressional and Legislative Affairs to the Associate Administrator for Congressional and Legislative Affairs. Effective December 27, 2005.

Section 213.3357 National Credit Union Administration

CUOT01009 Senior Policy Advisor to a Member. Effective December 15, 2005.

Section 213.3379 Commodity Futures Trading Commission

CTGS60008 Executive Assistant to the Chairman. Effective December 09, 2005.

Section 213.3384 Department of Housing and Urban Development

DUGS60345 Special Project Officer to the Assistant Secretary for Housing, Federal Housing Commissioner. Effective December 09, 2005.

DUGS60340 Special Assistant to the Chief of Staff. Effective December 20, 2005.

Section 213.3391 Office of Personnel Management

PMGS00056 Special Assistant to the Director, Office of Communications and Public Liaison. Effective December 21, 2005.

Section 213.3394 Department of Transportation

DTGS60069 Director of Communications to the Administrator. Effective December 21, 2005.

Section 213.3397 Federal Housing Finance Board

FBOT00004 Counsel to the Chairman. Effective December 15, 2005.

Authority: U.S.C. 3301 and 3302; E.O. 10577, 3 CFR 1954-1958 Comp., P.218

Office of Personnel Management
Linda M. Springer,
Director.

[FR Doc. E6-1099 Filed 1-27-06; 8:45 am]

BILLING CODE 6325-39-P